DEPARTMENT OF TRANSPORTATION

Federal Aviation Administration

14 CFR Part 39

[Docket No. FAA-2005-22405; Directorate Identifier 2002-NM-243-AD; Amendment 39-14269; AD 2005-19-04]

RIN 2120-AA64

Airworthiness Directives; Airbus Model A340-200 and -300 Series Airplanes

AGENCY: Federal Aviation Administration (FAA), Department of Transportation (DOT).

ACTION: Final rule; correction.

SUMMARY: The FAA is correcting a typographical error in an existing airworthiness directive (AD) that was published in the Federal Register on September 14, 2005 (70 FR 54251). The error resulted in in an incorrect Docket No. This AD applies to certain Airbus Model A340-200 and -300 series airplanes. This AD requires revising the airplane flight manual to incorporate new procedures for the flightcrew to follow to correct miscalculation of the takeoff and accelerating or stopping distance of the airplane during a ferry flight under certain conditions.

DATES: Effective September 29, 2005.

ADDRESSES: The AD docket contains the proposed AD, comments, and any final disposition. You may examine the AD docket on the Internet at http://dms.dot.gov, or in person at the Docket Management Facility office between 9 a.m. and 5 p.m., Monday through Friday, except Federal holidays. The Docket Management Facility office (telephone (800) 647-5227) is located on the plaza level of the Nassif Building at the U.S. Department of Transportation, 400 Seventh Street SW., room PL-401, Washington, DC. This docket number is FAA-2005-22405; the directorate identifier for this docket is 2002-NM-243-AD.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION: On September 6, 2005, the FAA issued AD 2005-19-04, amendment 39-14269 (70 FR 54251, September 14, 2005), for certain Airbus Model A340-200 and -300 series airplanes. The AD requires revising the airplane flight manual to incorporate new procedures for the flightcrew to follow to correct miscalculation of the takeoff and accelerating or stopping distance of the airplane during a ferry flight under certain conditions.

As published, that AD specifies an incorrect Docket No. (i.e., FAA-2005-20405) throughout preamble and the regulatory text of the AD. The correct Docket No. is FAA-2005-22405.

No other part of the regulatory information has been changed; therefore, the final rule is not republished in the Federal Register.

The effective date of this AD remains September 29, 2005.

§ 39.13 [Corrected]

In the Federal Register of September 14, 2005, on page 54253, in the first column, paragraph 2. of PART 39—AIRWORTHINESS DIRECTIVES of AD 2005-19-04 is corrected to read as follows:

* * * * *

2005-19-04 Airbus: Amendment 39-14269. Docket No. FAA-2005-22405; Directorate Identifier 2002-NM-243-AD.

* * * * *

Issued in Renton, Washington, on September 26, 2005.
Ali Bahrami,
Manager, Transport Airplane Directorate, Aircraft Certification Service.

[FR Doc. 05-19556 Filed 9-29-05; 8:45 am]

BILLING CODE 4910-13-P